NATIONAL AERONAUTICS AND SPACE ADMINISTRATION

[Notice: (21-043)]

NASA Astrophysics Advisory Committee; Meeting

AGENCY: National Aeronautics and Space Administration.

ACTION: Notice of meeting cancellation.

SUMMARY: In accordance with the Federal Advisory Committee Act, the National Aeronautics and Space Administration (NASA) announces that the planned meeting on June 29-30, 2021, of the Astrophysics Advisory Committee is cancelled. This meeting was announced in the Federal Register on June 14, 2021 (see reference above). The cancellation of this meeting is due to NASA administrative priorities. NASA will announce the new dates for this meeting in a future Federal Register notice.

DATES: The meeting announced in the Federal Register notice published June 14, 2021, at 86 FR 31538 (Notice: (21-037)), is cancelled.

Patricia Rausch,
Advisory Committee Management Officer, National Aeronautics and Space Administration.

[FR Doc. 2021-13965 Filed 6-25-21; 4:15 pm]

BILLING CODE 7510-13-P